DEPARTMENT OF THE INTERIOR

National Park Service

[NPS-WASO-VRP-OPH-22567; PPWOVPADH0, PPMPRHS1Y.Y00000 (177)]

Proposed Information Collection; National Park Service Office of Public Health Disease Reporting and Surveillance System

AGENCY: National Park Service, Interior.

ACTION: Notice; request for comments.

SUMMARY: We (National Park Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: You must submit comments on or before February 13, 2017.

ADDRESSES: Send your comments on the IC to Madonna L. Baucum, Information Collection Clearance Officer, National Park Service, 12201 Sunrise Valley Drive (Mail Stop 242), Reston, VA 20192 (mail); or via email at madonna_baucum@nps.gov. Please include “1024—New DRSS” in the subject line of your comments.

FOR FURTHER INFORMATION CONTACT: To request additional information about this IC, contact CDR George A. Larsen, Public Health Consultant, Office of Public Health, National Park Service, P.O. Box 168, Yellowstone National Park, WY 92190; or via email at george_larsen@nps.gov.

SUPPLEMENTARY INFORMATION:

I. Abstract

The National Park Service (NPS) Organic Act of 1916 (Organic Act) (54 U.S.C. 100101 et seq.) gives the NPS broad authority to regulate the use of the park areas under its jurisdiction. With over 400 NPS sites and hundreds of millions of visits per year, a large potential exists for exposure to disease agents within the National Park System. The NPS Office of Public Health (OPH) is an internal agency-specific public health capability, managed, funded and operated by NPS. This program is primarily staffed with commissioned corps officers on detail to the agency from the United States Public Health Service and is a national activity headquartered in Washington, DC with field staff located across the NPS system. Through disease surveillance and response, on-site evaluation/hazard analysis, consultation, policy guidance, and coordination with local, state and other federal health jurisdictions, OPH professionals assist park superintendents in protecting and promoting visitor health in the frontcountry and backcountry/wilderness. (NPS Management Policy 2006, 8.2.5.6)

The Disease Reporting and Surveillance System (DRSS) collects de-identified data on illness reports and standardizes data collection regarding illness case reports and outbreaks among NPS employees, park concessioner employees, and visitors to the park. Individual illness reports are entered into the DRSS database by NPS staff, as well as employees of park concessioners and Commercial Use Authorization (CUA) holders, utilizing a secure web-based interface application. These data provide parks, OPH, staff and managers of park concessioners (lodging, restaurants, general stores, and snack bars), and park clinic concessioners with an early warning system for potential outbreaks and inform public health interventions. By collecting and storing data from multiple sources, the system monitors health trends among NPS employees, concessioner employees, park visitors through CUA holders, and clinic visitors; detect potential clusters or outbreaks; and inform the development and implementation of disease response and control activities. The system is currently in operation in Yellowstone National Park; however, the NPS hopes to expand the system to other parks in the future.

II. Data

OMB Control Number: 1024—New.

Title: National Park Service Office of Public Health Disease Reporting and Surveillance System.

Service Form Number(s): None.

Type of Request: Existing collection in use without OMB approval.

Description of Respondents: Concessioner employees, Commercial Use Authorization Holders, visitors to units of the National Park System, and NPS employees.

Respondent's Obligation: Required to obtain a benefit.

Frequency of Collection: On occasion.

Number of Annual Responses: 400.

Estimated Time per Response: 3 minutes.

Estimated Total Annual Burden Hours: 20 hours.

Estimated Annual Nonhour Burden Cost: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Madonna L. Baucum,
Information Collection Clearance Officer, National Park Service.

[FR Doc. 2016-30131 Filed 12-14-16; 8:45 am]

BILLING CODE 4310-EH-P